ENVIRONMENTAL PROTECTION AGENCY

[EPA-HQ-OLEM-2019-0540; FRL-9774-01-OLEM]

Comprehensive Environmental Response, Compensation, and Liability Act (CERCLA); Notice of Grant Funding Guidance for FY 2022 State and Tribal Response Program With Funding Provided by the Bipartisan Infrastructure Investment and Jobs Act

AGENCY: Environmental Protection Agency (EPA).

ACTION: Notice.

SUMMARY: The Comprehensive Environmental Response, Compensation, and Liability Act (CERCLA), as amended, authorizes a noncompetitive grant program to establish or enhance state and tribal response programs. Generally, these response programs address the assessment, cleanup, and redevelopment of brownfields and other sites with actual or perceived contamination. Due to the passage of the Bipartisan Infrastructure Investment and Jobs Act (“Infrastructure Law”) in November 2021, EPA is now issuing this notice of a FY 2022 Funding Guidance to provide information and instruction to states and tribes requesting FY 2022 Section 128(a) funding provided by the Infrastructure Law. EPA anticipates that it may allocate approximately $57.9 million in FY 2022 Section 128(a) Infrastructure Law funds.

DATES: Requests for FY 2022 Section 128(a) Infrastructure Law funding will be accepted from March 30, 2022-June 3, 2022, and should be sent to the EPA Regional Office contact listed in Table 1.

FOR FURTHER INFORMATION CONTACT: Melissa Papasavvas, Office of Brownfields and Land Revitalization, Environmental Protection Agency, 1200 Pennsylvania Ave. NW, Washington, DC 20460-0001; telephone number (202) 566-0435, or the appropriate Regional EPA Brownfields contacts identified in Table 1.

SUPPLEMENTARY INFORMATION:

I. General Information

A. Does this action apply to me?

You may be affected by this action if you administer a State or Tribal response program that oversees assessment and cleanup activities at brownfield sites across the country. Note: The CERCLA definition of “State” includes US Territories and the District of Columbia (CERCLA section 101(27)).

B. How can I get copies of the grant funding guidance and other related information?

1. Docket. The docket for this action, identified by docket identification (ID) number EPA-HQ-OLEM-2019-0540, is available online at https://www.regulations.gov.

2. EPA Website. To access the FY22 section 128(a) grant funding guidance on EPA's website, please go to https://www.epa.gov/brownfields/funding-guidance-state-and-tribal-response-programs-fiscal-year-2022-bipartisan or https://www.epa.gov/system/files/documents/2022-03/final-fy22-128a-infrastructure-law-funding-guidance.pdf.

II. Authority

CERCLA section 128(a) (42 U.S.C. 9628(a)) authorizes a noncompetitive grant program to “establish or enhance” state and tribal response programs.

III. Background

1. General. CERCLA section 128(a) authorizes a noncompetitive grant program to establish or enhance state and tribal response programs. These section 128(a) response program grants are funded with Categorical State and Tribal Assistance Grant (STAG) appropriations and awarded in the form of a cooperative agreement, which is a type of assistance agreement that is used when there is substantial federal involvement with the recipient during the performance of an activity or project. Section 128(a) cooperative agreements are awarded and administered by EPA regional offices.

The Bipartisan Infrastructure Investment and Jobs Act (Infrastructure Law), signed in November 2021, invested additional funds to carry out section 128(a). Due to the passage of the Infrastructure Law, EPA is now issuing this Funding Guidance to provide information and instruction to states and tribes requesting FY 2022 Section 128(a) funding provided by the Infrastructure Law.

This funding is intended for those states and tribes that have the required management and administrative capacity within their government to administer a federal grant. The primary goal of this funding is to ensure that state and tribal response programs include, or are taking reasonable steps to include, certain elements of an environmental response program and that the program establishes and maintains a public record of sites addressed. Subject to the availability of funds, EPA regional personnel will provide technical assistance to states and tribes as they apply for and carry out section 128(a) cooperative agreements.

2. Catalogue of Federal Domestic Assistance (CFDA) and EPA Funding Opportunity Number (FON). The CFDA entry for the section 128(a) State and Tribal Response Program cooperative agreements is 66.817. The FON for FY 2022 section 128(a) funds is EPA-CEP-02. Section 128(a) Infrastructure funds under this funding guidance are NOT eligible to be included in state and tribal Performance Partnership Grants under 40 CFR part 35 subparts A and B.

3. Application period. Requests for funding should be sent to the appropriate Regional EPA contact and will be accepted from March 30, 2022 through June 3, 2022. Requests EPA Regional offices receive after June 3, 2022, will not be considered for FY 2022 Infrastructure funding. States or tribes that do not submit the request in the appropriate manner may forfeit their ability to receive funds. First time requestors are strongly encouraged to contact their respective Regional EPA Brownfields contacts, identified in Table 1, prior to submitting their funding request.

Requests submitted by the June 3, 2022, request deadline are preliminary; final cooperative agreement work plans and budgets will be negotiated with the EPA regional offices once final funding allocation determinations are made. For more information, see the funding guidance and FAQs at https://www.epa.gov/brownfields/funding-guidance-state-and-tribal-response-programs-fiscal-year-2022-bipartisan.

Table 1—Regional State and Tribal Brownfields Contacts
Region | State | Tribal
1—CT, ME, MA, NH, RI, VT | AmyJean McKeown, 5 Post Office Square, Suite 100 (OSRR07-2), Boston, MA 02109-3912, Phone (617) 918-1248, Fax (617) 918-1294, mckeown.amyjean@epa.gov | AmyJean McKeown, 5 Post Office Square, Suite 100 (OSRR07-2), Boston, MA 02109-3912, Phone (617) 918-1248, Fax (617) 918-1294, mckeown.amyjean@epa.gov.
2—NJ, NY, PR, VI | Terry Wesley, 290 Broadway, 25th Floor, New York, NY 10007-1866, Phone (212) 637-5027, wesley.terry@epa.gov | Terry Wesley, 290 Broadway, 25th Floor, New York, NY 10007-1866, Phone (212) 637-5027, wesley.terry@epa.gov.
3—DE, DC, MD, PA, VA, WV | Mike Taurino, 1650 Arch Street (3HS51), Philadelphia, PA 19103, Phone (215) 814-3371, Fax (215) 814-3274, taurino.michael@epa.gov | Mike Taurino, 1650 Arch Street (3HS51), Philadelphia, PA 19103, Phone (215) 814-3371, Fax (215) 814-3274, taurino.michael@epa.gov.
4—AL, FL, GA, KY, MS, NC, SC, TN | Cindy Nolan, 61 Forsyth Street SW, 10th Fl. (9T25), Atlanta, GA 30303-8960, Phone (404) 562-8425, Fax (404) 562-8788, nolan.cindyj@epa.gov | Cindy Nolan, 61 Forsyth Street SW, 10th Fl. (9T25), Atlanta, GA 30303-8909, Phone (404) 562-8425, Fax (404) 562-8788, nolan.cindyj@epa.gov.
5—IL, IN, MI, MN, OH, WI | Keary Cragan, 77 West Jackson Boulevard (SB-5J), Chicago, IL 60604-3507, Phone (312) 353-5669, Fax (312) 692-2161, cragan.keary@epa.gov | Rosita Clarke, 77 West Jackson Boulevard (SB-5J), Chicago, IL 60604-3507, Phone (312) 886-7251, Fax (312) 697-2075, clarke.rosita@epa.gov.
6—AR, LA, NM, OK, TX | Ana Esquivel, 1201 Elm Street, Suite 500, Dallas, Texas 75270-2102, Phone (214) 665-3163, Fax (214) 665-6660, esquivel.ana@epa.gov | Elizabeth Reyes, 1201 Elm Street, Suite 500, Dallas, Texas 75270-2102, Phone (214) 665-2194, Fax (214) 665-6660, reyes.elizabeth@epa.gov.
7—IA, KS, MO, NE | Susan Klein, 11201 Renner Boulevard (LCRD/BSPR), Lenexa, KS 66219, Phone (913) 551-7786, klein.susan@epa.gov | Jennifer Morris, 11201 Renner Boulevard (LCRD/BSPR), Lenexa, KS 66219, Phone (913) 551-7341, morris.jennifer@epa.gov.
8—CO, MT, ND, SD, UT, WY | Christina Wilson, 1595 Wynkoop Street (8LCR-BR), Denver, CO 80202-1129, Phone (303) 312-6706, wilson.christina@epa.gov | Melisa Devincenzi, 1595 Wynkoop Street (8LCR-BR), Denver, CO 80202-1129, Phone (303) 312-6377, devincenzi.melisa@epa.gov.
9—AZ, CA, HI, NV, AS, GU, MP | Jose Garcia, Jr., 600 Wilshire Blvd., Suite 1460, Los Angeles, CA 90017, Phone (213) 244-1811, Fax (213) 244-1850, garcia.jose@epa.gov | Jose Garcia, Jr., 600 Wilshire Blvd., Suite 1460, Los Angeles, CA 90017, Phone (213) 244-1811, Fax (213) 244-1850, garcia.jose@epa.gov.
10—AK, ID, OR, WA | Madison Sanders-Curry, 1200 Sixth Ave., Suite 155 (mail code 15-H04), Seattle, WA 98101, Phone (206 553-1889, Fax 206 553-8581, sanders-curry.madison@epa.gov | Madison Sanders-Curry, 1200 Sixth Ave., Suite 155 (mail code 15-H04), Seattle, WA 98101, Phone (206) 553-1889, Fax (206) 553-8581, sanders-curry.madison@epa.gov.

(Authority: 42 U.S.C. 9628(a))

Dated: April 21, 2022.
David R. Lloyd,
Director, Office of Brownfields and Land Revitalization.

[FR Doc. 2022-11069 Filed 5-23-22; 8:45 am]

BILLING CODE 6560-50-P